NATIONAL CREDIT UNION ADMINISTRATION

Notice of Meeting; Sunshine Act

TIME AND DATE: 10 a.m., Thursday, December 16, 2004.

PLACE: Board Room, 7th Floor, Room 7047, 1775 Duke Street, Alexandria, VA 22314-3428.

STATUS: Open.

MATTERS TO BE CONSIDERED: 1. Missouri Member Business Loan Rule Proposed Changes.

2. Texas Member Business Loan Rule Proposed Changes.

3. National Credit Union Share Insurance Fund (NCUSIF) Operating Level for 2005.

RECESS: 11:15a.m.

TIME AND DATE: 11:30 a.m., Thursday, December 16, 2004.

PLACE: Board Room, 7th Floor, Room 7047, 1775 Duke Street, Alexandria, Va 22314-3428.

STATUS: Closed.

MATTERS TO BE CONSIDERED: 1. Administrative Action under section 206(g)(7) of the Federal Credit Union Act. Closed pursuant to exemptions (6) and (8).

FOR FURTHER INFORMATION CONTACT: Mary Rupp, Secretary of the Board, telephone: (703) 581-6304.

Mary Rupp,
Secretary of the Board.

[FR Doc. 04-27390 Filed 12 -9-04; 3:47 pm]

BILLING CODE 7535-01-M